DEPARTMENT OF VETERANS AFFAIRS

[OMB Control No. 2900-0673]

Proposed Information Collection (One-VA Identification Verification Card) Activity; Comment Request

AGENCY: Office of Operations, Security, and Preparedness, Department of Veterans Affairs.

ACTION: Notice.

SUMMARY: The Office of Operations, Security, and Preparedness (OSP), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to issue a One-VA identification verification card.

DATES: Written comments and recommendations on the proposed collection of information should be received on or before May 29, 2009.

ADDRESSES: Submit written comments on the collection of information through Federal Docket Management System (FDMS) at http://www.Regulations.gov; or to Keith Frost, Office of Security and Law Enforcement (07B), Department of Veterans Affairs, 810 Vermont Avenue, NW., Washington, DC 20420 or e-mail: keith.frost@va.gov. Please refer to “OMB Control No. 2900-0673” in any correspondence. During the comment period, comments may be viewed online through FDMS.

FOR FURTHER INFORMATION CONTACT: Keith Frost at (202) 461-5247 or FAX (202) 273-7094.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OSP invites comments on: (1) Whether the proposed collection of information is necessary for the proper performance of OSP's functions, including whether the information will have practical utility; (2) the accuracy of OSP's estimate of the burden of the proposed collection of information; (3) ways to enhance the quality, utility, and clarity of the information to be collected; and (4) ways to minimize the burden of the collection of information on respondents, including through the use of automated collection techniques or the use of other forms of information technology.

Title: Request for One-VA Identification Card, VA Form 0711.

OMB Control Number: 2900-0673.

Type of Review: Extension of a currently approved collection.

Abstract: VA Form 0711 is used to collect pertinent information from employees, applicants seeking employment with VA, contractors, and affiliates prior to issuing a Department identification credential. VA uses the data collected to personalize, print, and issue a personal identify verification card.

Affected Public: Federal government, Individuals or households, and Business or other for-profits.

Estimated Annual Burden: 8,333 hours.

Estimated Average Burden per Respondent: 5 minutes.

Frequency of Response: On Occasion.

Estimated Number of Respondents: 100,000.

Dated: March 25, 2009.
By direction of the Secretary.
Denise McLamb,
Program Analyst, Enterprise Records Service.

[FR Doc. E9-7007 Filed 3-27-09; 8:45 am]

BILLING CODE